NUCLEAR REGULATORY COMMISSION

[Docket No. 70-157; NRC-2009-0382]

Notice of Renewal of Special Nuclear Material License No. SNM-180 [University of Texas at Austin]

AGENCY: Nuclear Regulatory Commission.

ACTION: Notice of renewal of license.

FOR FURTHER INFORMATION CONTACT: Rafael L. Rodriguez, Project Manager, Fuel Manufacturing Branch, Division of Fuel Cycle Safety and Safeguards, Office of Nuclear Material Safety and Safeguards, U.S. Nuclear Regulatory Commission, Rockville, MD 20852. Telephone: (301) 492-3111; Fax number: (301) 492-3363; E-mail: Rafael.Rodriguez@nrc.gov.

SUPPLEMENTARY INFORMATION:

I. Introduction

By letter dated December 13, 2007, the Nuclear Engineering Teaching Laboratory (NETL) at the University of Texas at Austin (UTX-A) requested the renewal of Special Nuclear Material License No. SNM-180. Pursuant to Title 10 of the Code of Federal Regulations (10 CFR), Section 2.106, the U.S. Nuclear Regulatory Commission (NRC) is providing notice that Special Nuclear Material License No. SNM-180, which authorizes the NETL at the UTX-A to receive title to, own, acquire, receive, possess, use, and transfer plutonium and uranium enriched up to 20% by weight, has been renewed for a period of 10 years. The NETL's request for the proposed renewed license was previously noticed, and an opportunity to request a hearing provided, in the Federal Register on September 10, 2009 (74 FR 46626). No requests for a hearing were received. The proposed licensing action was categorically excluded under 10 CFR 51.22(c)(14)(v) from the requirements to prepare an Environmental Assessment or an Environmental Impact Statement.

This license complies with the standards and requirements of the Atomic Energy Act of 1954, as amended, and NRC's rules and regulations as set forth in 10 CFR Chapter 1. Accordingly, this license was renewed on November 13, 2009, and is effective immediately.

II. Further Information

The NRC has prepared a Safety Evaluation Report (SER) that documents the information that was reviewed and the NRC's conclusion. In accordance with 10 CFR 2.390 of the NRC's “Rules of Practice,” details with respect to this action, including the SER and accompanying documentation included in the license package, are available electronically at the NRC's Electronic Reading Room at http://www.nrc.gov/reading-rm/adams.html. From this site, you can access the NRC's Agencywide Documents Access and Management System (ADAMS), which provides text and image files of NRC's public documents. The ADAMS accession numbers for the documents related to this notice are:

(a) ML080240243: Non-Sensitive License Renewal Application for SNM-180 (License No. SNM-180; Docket No. 70-157).

(b) ML080420575: Acceptance of the University of Texas-Austin's License Renewal Application and Notice of Timely Renewal Status (TAC L32659).

(c) ML092030533: Revised Non-Sensitive License Renewal Application for SNM-180.

(d) ML093030057: SER in Support of License Renewal Application (Public Version).

(e) ML093030056: Special Nuclear Materials License No. SNM-180 (Public Version).

If you do not have access to ADAMS, or if there are problems in accessing the documents located in ADAMS, contact the NRC Public Document Room (PDR) Reference staff at 1-800-397-4209, 301-415-4737 or by e-mail to PDR.Resource@nrc.gov.

These documents may also be viewed electronically on the public computers located at the NRC's Public Document Room (PDR), O-1 F21, One White Flint North, 11555 Rockville Pike, Rockville, MD 20852. The PDR reproduction contractor will copy documents for a fee.

Dated at Rockville, MD this 5th day of December 2009.
For the Nuclear Regulatory Commission.
Peter J. Habighorst,
Chief, Fuel Manufacturing Branch, Division of Fuel Cycle Safety and Safeguards, Office of Nuclear Material Safety and Safeguards.

[FR Doc. E9-29656 Filed 12-11-09; 8:45 am]

BILLING CODE 7590-01-P